NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection: “Nuclear Material Events Database (NMED)” for the Collection of Event Report, Response, Analyses, and Follow-up Data on Events Involving the Use of Atomic Energy Act (AEA) Radioactive Byproduct Material.

3. The form number if applicable: Not applicable.

4. How often the collection is required: Monthly or within 30 days of receipt from licensee. Events that pose significant health and safety hazards—within the next working day of notification by an Agreement States licensee.

5. Who will be required or asked to report: Current Agreement States and any State receiving Agreement State status in the future.

6. An estimate of the number of annual responses: 620.

7. The estimated number of annual respondents: 32.

8. An estimate of the total number of hours needed annually to complete the requirement or request: 1,240 hours (an average of approximately 2.0 hours per response) for all existing Agreement States reporting; any new Agreement State would add approximately 19 event reports (including follow-up reports) per year or 38 burden hours.

9. An indication of whether Section 3507(d), Pub. L. 104-13 applies: N/A.

10. Abstract: NRC regulations require NRC licensees to report incidents and events involving the use of radioactive byproduct material, and source material, such as those involving radiation overexposures, leaking or contaminated sealed source(s), release of excessive contamination of radioactive material, lost or stolen radioactive material, equipment failures, abandoned well logging sources and medical events. Agreement State licensees are also required to report these events to their individual Agreement State regulatory authorities under compatible Agreement State regulations. NRC is requesting that the Agreement States provide information on the initial notification, response actions, and follow-up investigations on events involving the use of nuclear materials regulated pursuant to the Atomic Energy Act. The event information should be provided in a uniform electronic format, for assessment and identification of any facilities/site specific or generic safety concerns that could have the potential to impact public health and safety. The identification and review of safety concerns may result in proposals for changes or revisions to technical or regulatory designs, processes, standards, guidance or requirements.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by August 27, 2003. Comments received after this date will be considered if it is practical to do so, but assurance of consideration cannot be given to comments received after this date. Bryon Allen, Office of Information and Regulatory Affairs (3150-0163), NEOB-10202, Office of Management and Budget, Washington, DC 20503.

Comments can also be submitted by telephone at (202) 395-3087.

The NRC Clearance Officer is Brenda Jo Shelton, 301-415-7233.

For the Nuclear Regulatory Commission.

Dated at Rockville, Maryland, this 21st day of July, 2003.
For the Nuclear Regulatory Commission.
Brenda Jo Shelton,
NRC Clearance Officer, Office of the Chief Information Officer.

[FR Doc. 03-19066 Filed 7-25-03; 8:45 am]

BILLING CODE 7590-01-P